DEPARTMENT OF THE INTERIOR

Bureau of Land Management

[L1610000.PQ0000/LLCAC09000]

Notice of Availability of the Record of Decision for the Clear Creek Management Area Resource Management Plan, California

AGENCY: Bureau of Land Management, Interior.

ACTION: Notice of availability.

SUMMARY: The Bureau of Land Management (BLM) announces the availability of the Record of Decision (ROD) and Resource Management Plan (RMP) for the Clear Creek Management Area (CCMA) located in portions of southern San Benito and western Fresno Counties, California. The California State Director signed the ROD on February 11, 2014, which constitutes the BLM's final decision and makes the CCMA RMP effective immediately.

ADDRESSES: Copies of the ROD and the CCMA RMP are available upon request from the Field Manager, Hollister Field Office, Bureau of Land Management, 20 Hamilton Court, Hollister, CA 95023 or via the Internet at http://www.blm.gov/ca/st/en/fo/hollister/clear_creek_management_area/CCMA_RMP.html. Copies of the ROD/Approved RMP are available for public inspection at the Hollister Field Office and the BLM California State Office, 2800 Cottage Way, Sacramento, CA 95825.

FOR FURTHER INFORMATION CONTACT: Sky Murphy, Planning & Environmental Coordinator, telephone 831-630-5039; address 20 Hamilton Court, Hollister, CA 95023; email smurphy@blm.gov. Persons who use a telecommunications device for the deaf (TDD) may call the Federal Information Relay Service (FIRS) at 1-800-877-8339 to contact the above individual during normal business hours. The FIRS is available 24 hours a day, 7 days a week, to leave a message with the above individual. You will receive a reply during normal business hours.

SUPPLEMENTARY INFORMATION: The Hollister RMP, adopted in 1984, provides management guidance for the CCMA. The BLM-administered lands account for more than 84% of the 75,000-acre Clear Creek Management Area in southern San Benito and western Fresno Counties, California. The BLM also administers subsurface minerals on approximately 3,500 acres of “split estate” lands where the surface is owned by a non-Federal entity. Within the CCMA is the 31,000-acre Serpentine Area of Critical Environmental Concern (ACEC), which was designated based on the human health risk associated with the naturally occurring asbestos and the special status plant species endemic to the area.

The BLM prepared a series of amendments to the Hollister RMP in 1986, 1995, and 2007 to address new information and concerns regarding asbestos related health risks and rare plant species. The CCMA was not addressed in the 2007 Hollister RMP, however, because in 2004 the Environmental Protection Agency (EPA) -initiated asbestos exposure and human health risk assessment was not completed in time to be incorporated into the Hollister RMP. Upon completion of the EPA study, the BLM incorporated this new information into its CCMA planning process and associated Environmental Impact Statement (EIS).

As a result of this new health and safety information, the CCMA ROD/Approved RMP designates the Serpentine ACEC as a “Limited” vehicle use area for highway-licensed vehicles authorized by permit only. The ROD also limits the number of annual visitor-use days to reduce human health risks associated with exposure to naturally occurring asbestos in the ACEC.

Based on the public's concerns about impacts to off-highway vehicle recreation, adaptive management criteria were added to the RMP that would allow the BLM to reassess its decisions on access and vehicle travel in the Serpentine ACEC if significant new information becomes available on human health risks from exposure to airborne asbestos fibers.

In addition to public health and safety and recreation and travel management, the CCMA ROD/Approved RMP also describes the BLM management actions and allowable uses that will meet desired resource conditions for natural and cultural resources. For example, approximately 5,070 acres of public lands within the CCMA exhibit wilderness characteristics. Under the CCMA ROD and Approved RMP, these lands will be managed to emphasize primitive, non-motorized recreation opportunities.

The CCMA ROD/Approved RMP reflects the BLM's “preferred alternative” described in the CCMA Proposed RMP and Final EIS released in March 2013. Following the release of the Proposed RMP and Final EIS, 21 protest letters were received. The BLM Director responded to each protest issue. In accordance with 43 CFR 1610.5-2(b), all protests were resolved prior to approving the RMP. No inconsistencies with State or local plans, policies or programs were identified during the Governor's consistency review of the Proposed RMP and Final EIS.

The CCMA ROD includes several decisions that are appealable. For example, the decisions designating routes of travel within designated areas for motorized vehicles are implementation decisions and are appealable under 43 CFR part 4. These decisions are contained in Appendix II of the CCMA ROD/Approved RMP. Any party adversely affected by the approved route designations may appeal within 30 days of publication of this Notice of Availability pursuant to 43 CFR part 4, subpart E. The appeal should state the specific route(s), as identified in Appendix II of the CCMA ROD/Approved RMP, on which the decision is being appealed. The appeal must be filed with the Hollister Field Manager at the above listed address. Please consult the appropriate regulations (43 CFR part 4, subpart E) for further appeal requirements.

Authority: 40 CFR 1506.6.

Thomas Pogacnik,
Deputy State Director.

[FR Doc. 2014-02799 Filed 2-11-14; 8:45 am]

BILLING CODE 4310-40-P